DEPARTMENT OF ENERGY

10 CFR Parts 430 and 431

[EERE-2017-BT-STD-0062]

RIN 1904-AD38

Energy Conservation Program for Appliance Standards: Proposed Procedures for Use in New or Revised Energy Conservation Standards and Test Procedures for Consumer Products and Commercial/Industrial Equipment

AGENCY: Office of Energy Efficiency and Renewable Energy, Department of Energy.

ACTION: Notice of public meeting and webinar and extension of public comment period.

SUMMARY: On February 13, 2019, the U.S. Department of Energy (DOE) published in the Federal Register a notice of proposed rulemaking and request for comment regarding proposals to update and modernize the Department's current rulemaking methodology titled, “Procedures, Interpretations, and Policies for Consideration of New or Revised Energy Conservation Standards for Consumer Products” (Process Rule). This notice announces a second public meeting, to be held on April 11, 2019, and an extension of the public comment period for submitting comments in response to the Process Rule. The comment period is extended from April 15, 2019, to May 6, 2019.

DATES: Comments: The comment period for the notice of proposed rulemaking and request for comment published on February 13, 2019 (84 FR 3910) is extended. Written comments and information are requested and will be accepted on or before May 6, 2019.

Meeting: DOE will hold a public meeting on Thursday, April 11, 2019, from 9 a.m. to 4:30 p.m. The meeting will also be broadcast as a webinar.

ADDRESSES: The public meeting will be held at the U.S. Department of Energy, Forrestal Building, Room 8E-089, 1000 Independence Avenue SW, Washington, DC 20585.

Interested persons are encouraged to submit comments using the Federal eRulemaking Portal at https://www.regulations.gov. Follow the instructions for submitting comments. Alternatively, interested persons may submit comments, identified by docket number EERE-2018-BT-STD-0018, by any of the following methods:

1. Federal eRulemaking Portal: https://www.regulations.gov. Follow the instructions for submitting comments.

2. Email: Process.Rule@ee.doe.gov. Include the docket number EERE-2017-BT-STD-0062 and/or RIN number 1904-AD38 in the subject line of the message.

3. Postal Mail: Sofie Miller, U.S. Department of Energy, Office of Energy Efficiency and Renewable Energy, 1000 Independence Avenue SW, Washington, DC 20585, Room 6A-013. Telephone: (202) 287-1445. If possible, please submit all items on a compact disc (“CD”), in which case it is not necessary to include printed copies.

4. Hand Delivery/Courier: Sofie Miller, U.S. Department of Energy, Office of Energy Efficiency and Renewable Energy, 1000 Independence Avenue SW, Washington, DC 20585. Telephone: (202) 586-5000. If possible, please submit all items on a CD, in which case it is not necessary to include printed copies.

No telefacsimilies (faxes) will be accepted.

Docket: The docket for this activity, which includes Federal Register notices, comments, and other supporting documents/materials, is available for review at https://www.regulations.gov. All documents in the docket are listed in the https://www.regulations.gov index. However, some documents listed in the index, such as those containing information that is exempt from public disclosure, may not be publicly available.

The docket web page can be found at https://www.regulations.gov/docket?D=EERE-2017-BT-STD-0062. The docket web page contains instructions on how to access all documents, including public comments, in the docket.

FOR FURTHER INFORMATION CONTACT: Sofie Miller, Senior Advisor, U.S. Department of Energy, Office of Energy Efficiency and Renewable Energy, 1000 Independence Avenue SW, Washington, DC 20585. Telephone: (202) 586-5000. Email: Process.Rule@ee.doe.gov.

Francine Pinto, U.S. Department of Energy, Office of the General Counsel, GC-33, 1000 Independence Avenue SW, Washington, DC 20585. Telephone: (202) 586-7432. Email: Francine.Pinto@hq.doe.gov.

SUPPLEMENTARY INFORMATION:

On February 13, 2019, the U.S. Department of Energy (DOE) published in the Federal Register a notice of proposed rulemaking and request for comment regarding proposals to update and modernize the Department's current rulemaking methodology titled, “Procedures, Interpretations, and Policies for Consideration of New or Revised Energy Conservation Standards for Consumer Products” (“Process Rule”). 84 FR 3910. That document announced a public meeting held on March 21, 2019, and request for written comments and information by April 15, 2019.

The public meeting held on March 21, 2019, did not address all of the content included in the notice of proposed rulemaking. Accordingly, DOE has determined that a second public meeting and extension of the comment period is appropriate. This notice announces that DOE will hold a second public meeting on April 11, 2019, to continue discussion on the proposal and to obtain input on topics not covered at the first public meeting. This notice also announces an extension of the public comment period for submitting comments in response to the proposal. The comment period is extended from April 15, 2019, to May 6, 2019. See section V, “Public Participation,” of the notice published on February 13, 2019, for additional information on participating in the public meeting and submitting comments. Id.

Signed in Washington, DC, on March 27, 2019.
Daniel R. Simmons,
Assistant Secretary, Energy Efficiency and Renewable Energy.

[FR Doc. 2019-06364 Filed 4-1-19; 8:45 am]

BILLING CODE 6450-01-P